DEPARTMENT OF JUSTICE

Notice of Lodging Proposed Consent Decree

In accordance with Departmental Policy, 28 CFR 50.7, notice is hereby given that a proposed Consent Decree in United States v. Mlaskoch, et al., Civil Action No. 10-cv-2669-JRT-LIB, was lodged with the United States District Court for the District of Minnesota on February 11, 2015.

This proposed Consent Decree concerns a complaint filed by the United States on behalf of the United States Environmental Protection Agency against Bradd Louis James Mlaskoch, Danielle Johnson Mlaskoch f/k/a Danielle Johnson, and Mlaskoch Excavating, Inc., pursuant to sections 301(a), 309(b) and (d) of the Clean Water Act, 33 U.S.C. 1311 (a), 1319 (b) and (d), to obtain injunctive relief from, and impose civil penalties on, the Defendants in connection with alleged discharges of pollutants in or about Pine County, Minnesota, and for violating the Clean Water Act by discharging pollutants into waters of the United States without a permit and authorization by the United States Army Corps of Engineers. The proposed Consent Decree resolves these allegations by requiring the Defendants to restore the impacted areas and/or perform mitigation and to pay a civil penalty.

The Department of Justice will accept written comments relating to this proposed Consent Decree for thirty (30) days from the date of publication of this Notice. Please address comments to Friedrich A. P. Siekert, AUSA, United States Attorney's Office, United States Courthouse, 300 South Fourth Street, Suite 600, Minneapolis, MN 55415 and refer to United States v. Mlaskoch, et al., USAO File No. 2009V00565, DJ# 90-5-1-1-18624.

The proposed Consent Decree may be examined at the Clerk's Office, United States District Court for the District of Minnesota, United States Courthouse, 300 South Fourth Street, Suite 202, Minneapolis, MN 55415. In addition, the proposed Consent Decree may be examined electronically at http://www.justice.gov/enrd/Consent_Decrees.html.

Cherie L. Rogers,
Assistant Section Chief, Environmental Defense Section, Environment and Natural Resources Division.

[FR Doc. 2015-03409 Filed 2-18-15; 8:45 am]

BILLING CODE 4410-15-P